DEPARTMENT OF HEALTH AND HUMAN SERVICES

Agency for Healthcare Research and Quality

Invitation To Submit Quality Measures to AHRQ's National Quality Measures Clearinghouse

AGENCY: Agency for Healthcare Research and Quality, HHS.

ACTION: Notice.

SUMMARY: In response to its legislative mandate to compile health care quality measures (see Background section below), the Agency for Healthcare Research and Quality (AHRQ) invites organizations, and other developers of health care quality measures to submit tested (and/or valid and reliable) quality measures for inclusion in the World Wide Web-based National Quality Measures Clearinghouse (NQMC).

AHRQ is sponsoring the development of NQMC to promote widespread access to quality measures by the health care community and other interested individuals. NQMC is designed to be a database for information on specific health care quality measures and measure sets. The scheduled availability date for the NQMC Web site is December/Winter 2002.

Measure developers are asked to submit measures and measure updates that meet the NQMC inclusion criteria, along with supporting documentation, on an ongoing basis. NQMC will contain descriptive summaries of each measure catalogued in the NQMC database. Developers have the option of making their entire measure available through NQMC or may opt to provide ordering information that NQMC will include in the measure summary. NQMC users will be directed to contact the measure developer to obtain or purchase the entire measure if it is not available via the NQMC Web site. Quality measure summaries will be retrievable by many parameters including topic, target population, and setting of care. Users of NQMC will be able to search NQMC and the National Guideline Clearinghouse™ www.guideline.gov.—simultaneously.

DATES: Quality measures and measure sets will be received on an ongoing basis by ECRI at the address below. ECRI, a nonprofit health services research organization, will perform the technical work of the NQMC, under contract with AHRQ.

ADDRESSES: Organizations interested in contributing to the NQMC should submit two hard copies of each measure and documentation that the measure meets the NQMC Inclusion Criteria in typed format and electronic (if available), including name, address, phone, and e-mail address of a contact person to: Vivian H. Coates, NQMC Project Director, ECRI, 5200 Butler Pike, Plymouth Meeting, PA 19462-1298.

FOR FURTHER INFORMATION CONTACT: Forward questions to qualitymeasures@ahrq.gov.

SUPPLEMENTARY INFORMATION:

Background

AHRQ is the lead Federal agency for enhancing the quality, appropriateness, and effectiveness of healthcare services and access to such services. In carrying out its mission, AHRQ conducts and supports research that develops and presents scientific evidence on methods for measuring quality and strategies for improving quality. Under section 912(a)(2)(C) Title IX, of the Agency for Healthcare Research and Quality Act of 1999, AHRQ is charged with compiling health care quality measures that have been developed in the public and private sector. To this end AHRQ will compile and present measures in the NQMC that have been submitted by the public and private sector, and that meet the following definitions and inclusion criteria.

As part of its mandate to use existing technologies to promote health care quality improvement, NQMC will use the World Wide Web to effectively and efficiently reach a broad audience within the health care community. This Web-based repository of quality measures is intended to facilitate quick identification and access to quality measures by practitioners and health related organizations [e.g., third party payers, peer review groups, professional societies submitting measures]. The measures will in turn be used to make assessments that may ultimately inform health care decisions.

Quality Measure Definition

The NQMC defines a quality measure as a mechanism to assign a quantifier to quality of care by comparison to a criterion.

Criteria

A measure must meet all of the following criteria to be included in the NQMC. If the measures do not meet one or more of these inclusion criteria, the submission forms will be returned to the submitter with a request for further documentation or development in the identified area. The submitter may revise and resubmit measures.

1. The quality measure must address some aspect(s) of quality of care delivered to defined patients by a defined individual, group of individuals or organizations and must relate to at least one of the following domains: (a) Process of care (a health care service provided to or on behalf of a patient); (b) Outcome of care (a health state of a patient resulting from health care); (c) Access to care (the patient's attainment of timely and appropriate health care); and, (d) Patient experience of care (a report by a patient concerning observations of and participation in health care).

2. The submitter must provide English-language documentation that includes at least each of the three following items: (i) The rationale for the measure (The rationale is a brief statement describing the patients and the specific aspect of health care to which the measure applies. The rationale may also include the evidence basis for the measure, and an explanation of how to interpret results, if that information is provided.); (ii) A description of the denominator and numerator of the measure (including specific variables for inclusion or exclusion of cases from either the denominator or numerator). Note—a continuous variable statement (e.g., “time to thrombolysis”) may be an acceptable alternative and measures whose metric is other than a rate or percentage will be considered on an individual basis; and, (iii) The data source(s) for the measure.

3. The submitter should provide documentation of supporting evidence appropriate for the measure domain: (1) For process measures, evidence that the measured clinical process has led to improved health outcomes; (2) For outcome measures, evidence that the outcome measure has been used to detect the impact of one or more clinical interventions; (3) For access measures, evidence that an assoication exists between the result of the access measure and the outcomes of or satisfaction with care; and (4) For patient experience measures, evidence that an association exists between the measure of patient experience of health care and the values and preferences of patients/consumers.

The documentation must consist of at least one of the following types of evidence: (1) One or more research studies published in a National Library of Medicine (NLM) indexed, peer-reviewed journal; (2) A systematic review of the clinical literature; (3) A clinical practice guideline or other peer-reviewed synthesis of the clinical evidence; (4) A formal consensus procedure involving expert clinicians and clinical researchers.

Additionally, for patient experience measures, evidence should include focus groups involving patients and/or cognitive testing of the measures by patients. For access measures, the consensus panel should also include other relevant stakeholders.

4. At least one of the following criteria must be satisfied with specific information attached in each case: (1) The measure has been cited in one or more reports in a National Library of Medicine (NLM) indexed, peer-reviewed journal, applying or evaluating the measure's properties; (2) The submitter provides documented peer-reviewed evidence evaluating the reliability (the degree to which the measure is free from random error) and validity (the degree to which the measure is associated with what it purports to measure) of the measure; or (3) The measure has been developed, adopted, adapted, or endorsed by an organization that promotes rigorous development and use of clinical performance measures. Such an organization may be at the international, National, regional, State or local levels (e.g., a multi-state consortium, a State Medicaid agency, or a health organization or delivery system). Note—Adapted measures are those measures developed by one organization, and then subsequently adopted and modified in some way by another organization.

5. The measure must be in current use or currently in pilot testing and must be the most recent version if the measure has been revised. A measure is in current use if at least one health care organization has used the measure to evaluate or report on quality of care within the previous three years.

Dated: August 15, 2002.
Carolyn M. Clancy,
Acting Director.

[FR Doc. 02-21326 Filed 8-20-02; 8:45 am]

BILLING CODE 4160-90-M